DEPARTMENT OF DEFENSE

Department of the Army, Corps of Engineers

Availability of Draft General Reevaluation Report and Supplemental Environmental Impact Statement for the Poplar Island Environmental Restoration Project, Talbot County, MD

AGENCY: Department of the Army, U.S. Army Corps of Engineers, DOD.

ACTION: Notice of availability.

SUMMARY: In accordance with the requirements of the National Environmental Policy Act (NEPA), the U.S. Army Corps of Engineers (USACE), Baltimore District has prepared a Draft General Reevaluation Report (GRR) and Supplemental Environmental Impact Statement (SEIS) for the Poplar Island Environmental Restoration Project (PIERP) to evaluate the vertical and/or lateral expansion of the PIERP, design modifications to the existing project, the addition of recreational/educational opportunities to the existing project, and the potential to accept dredged material from additional channels not specified in the 1996 EIS for the existing project.

The preferred alternative includes a northern lateral expansion consisting of approximately 575 acres, of which 60% will be wetland habitat and 40% upland habitat; construction of a 5-ft vertical raising of the existing upland Cells 2 and 6 at the PIERP; amending the existing project authorization and Project Cooperation Agreement (PCA) to include the placement of dredged material from the southern approach channels to the Chesapeake and Delaware (C&D) Canal and other small Federal navigation projects; incorporation of design modifications required for the completion of the existing project, and development of recreational and educational enhancements for the PIERP. The Corps is making the Draft integrated GRR/SEIS available to the public for a 45-day review and comment period.

DATES: Comments need to be received on or before August 8, 2005, to ensure consideration in final plan development. Two public meetings will be held for the PIERP integrated Draft BRR/SEIS. See SUPPLEMENTARY INFORMATION section for meeting dates and addresses.

ADDRESSES: Send written comments concerning this proposed project to U.S. Army Corps of Engineers, Baltimore District, Attn: Mr. Mark Mendelsohn, CCENAB-PL-P, P.O. Box 1715, Baltimore, MD 21203-1715. Submit electronic comments to mark.mendelsohn@usace.army.mil. See SUPPLEMENTARY INFORMATION section for electronic comment guidance.

FOR FURTHER INFORMATION CONTACT: Mr. Mark Mendelsohn, (410) 962-9499 or (800) 295-1610.

SUPPLEMENTARY INFORMATION: PIERP is located in the Chesapeake Bay; approximately 39 miles south-southeast of the Port of Baltimore, and two miles northwest of Tilghman Island in Talbot County, MD. Approximately 10,000 acres of remote island habitat has been lost throughout the Chesapeake Bay in the last 150 years. Dredged material from the Upper Chesapeake bay Approach Channels to the Port of Baltimore is being beneficially used to restore 1,140 acres of wetland and upland habitat (approximately 570 acres of wetland habitat and 570 acres of upland habitat), and it is estimated that by 2014 the PIERP will provide up to 40 million cubic yards (mcy) of dredged material placement capacity. To date, approximately 12 mcy of dredged material have been placed at the site. Construction and site operation at the PIERP is a collaborative effort that is cost shared between the Federal sponsor, the U.S. Army Corps of Engineers—Baltimore District (USACE-Baltimore) and the non-Federal sponsor, Maryland Port Administration (MPA).

To address the predicted dredged material placement capacity shortfall, USACE-Baltimore and MPA initiated the Poplar Island Expansion Study (PIES) under the existing PIERP Congressional Authorization, Section 537 of the Water Resources Development Act (WRDA) of 1996. authorization for ecosystem restoration projects using dredged material is included in Section 204 of the WRDA of 1992, as amended by Section 207 of the WRDA of 1996. A Notice of Intent (NOI) to initiate the integrated General Reevaluation Report (GRR)/Supplemental Environmental Impact Statement (SEIS) was published in the Federal Register in June 2003 (68 FR 33685). The USACE-Baltimore District, and a non-Federal sponsor, MPA, under the auspices of the Maryland Department of Transportation (MDOT), are the sponsors for the PIERP GRR/SEIS.

This Draft integrated GRR/SEIS documents the National Environmental Policy Act (NEPA) compliance for the proposed expansion of the PIERP, provides information specific to the actions of the GRR, and supplements the Poplar Island Restoration Study, Maryland: Integrated Feasibility Report and Environmental Impact Statement (ERP No. D-COE-D350557-MD) (USACE/MPA, 1996).

The first public meeting will be held at the Talbot County Public Library, Easton Branch, 100 West Dover Street, Easton, Maryland 21601, in the conference room on Tuesday, July 19, 2005 beginning at 6 p.m. The second public meeting will be held at Tilghman Elementary School, 21374 Foster Avenue, Tilghman, Maryland 21617, in the cafeteria on Wednesday, Jul6 20, 2005 beginning at 7 p.m. Staff will be available one hour prior to the meeting start time. Both meetings will provide an opportunity for the public to present oral and/or written comments. If you submit your comments electronically, please provide them in body of your message; do not send attached files. Please include your name an address in your message.

All persons and organizations that have an interest in the PIERP integrated GRR/SEIS are urged to participate in one or both meetings.

You may view the Draft integrated GRR/SEIS and related information on our Web page at http://www.nab.usace.army.mil/projects/Maryland/PoplarIsland/expansion.html

After the public comment period ends on August 8, 2005, USACE will consider all comments received. The Draft integrated GRR/SEIS will be revised as appropriate and a Final integrated GRR/SEIS will be issued.

The Draft integrated GRR/SEIS has been prepared in accordance with (1) The National Environmental Policy Act (NEPA) of 1969, as amended (42 U.S.C. 4321 et seq.), (2) regulations of the Council on Environmental Quality for implementing the procedural provisions of NEPA (40 CFR parts 1500-1508), and (3) USACE regulations implementing NEPA (ER-200-2-2).

Mark Mendelsohn,
Study Manager.

[FR Doc. 05-12307 Filed 6-21-05; 8:45 am]

BILLING CODE 3710-41-M